DEPARTMENT OF THE INTERIOR

U.S. Geological Survey

[GX13SB00C2G9100]

Agency Information Collection Activities: Request for Comments

AGENCY: U.S. Geological Survey (USGS), Interior.

ACTION: Notice of a renewal of a currently approved information collection (1028-0107).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on November 30, 2016.

DATES: To ensure that your comments are considered, we must receive them on or before August 30, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0107, Economic Contribution of Federal Investments in Restoration of Degraded, Damaged, or Destroyed Ecosystems' in all correspondence.

FOR FURTHER INFORMATION CONTACT: Catherine Cullinane Thomas, Fort Collins Science Center, U.S. Geological Survey, 2150 Centre Ave., Fort Collins, CO 80526 (mail); 970-226-9164 (phone); or ccullinanethomas@usgs.gov (email). You may also find information about this ICR at www.reginfo.gov.

SUPPLEMENTARY INFORMATION:

I. Abstract

Federal investments in ecosystem restoration projects protect Federal trusts, ensure public health and safety, and preserve and enhance essential ecosystem services. These investments also generate business activity and create jobs. The Economic Impacts of Ecosystem Restoration project aims to increase the availability of information on the costs and activities associated with ecosystem restoration, and to gauge the economic effects of these investments to local economies. The project is comprised of a series of case studies that quantify the economic impacts of restoration projects. The case studies include examples of collaboratively funded and managed projects to restore a wide range of degraded, damaged, or destroyed ecosystems. In addition to providing improved information on the economic impacts of restoration, these case studies highlight DOI restoration efforts and tell personalized stories about each project and the communities that are positively affected by restoration activities. Project methods include the collection of primary expenditure data and economic input/output modeling. Results from the first phase of case studies are available online at https://www.fort.usgs.gov/economic-impacts-restoration and in a USGS report titled `Estimating the economic impacts of ecosystem restoration—methods and case studies'. The report provides a detailed description of the methods used to estimate economic impacts of case study projects and also provides suggestions, lessons learned, and trade-offs between potential analysis methods. This second phase of case studies aims to refine the survey methods and fill in some data gaps on specific types of restoration activities.

II. Data

OMB Control Number: 1028-0107.

Form Number: NA.

Title: Economic Contribution of Federal Investments in Restoration of Degraded, Damaged, or Destroyed Ecosystems.

Type of Request: Renewal of existing information collection.

Affected Public: DOI restoration project managers and contractors working on selected case study restoration projects.

Respondent's Obligation: None. Participation is voluntary.

Frequency of Collection: One time only.

Estimated Total Number of Annual Responses: We expect to do up to 10 case studies per year. This will result in approximately 10 responses by project managers and approximately 30 responses by contractors, for a total of 40 responses per year. Most of the project managers are expected to be Federal employees.

Estimated Time per Response: Restoration project managers will complete a project summary survey and an expenditure survey, and will work with the USGS to coordinate contact with project contractors. It is expected that it will take project managers up to 4 hours to complete this activity. Project contractors will complete an expenditure survey. It is expected that it will take contractors no more than 1 hour to complete this activity.

Estimated Annual Burden Hours: Total estimated annual burden for this collection is no more than 70 hours per year.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

William Lellis,
Acting Associate Director, Ecosystems.

[FR Doc. 2016-15657 Filed 6-30-16; 8:45 am]

BILLING CODE 4338-11-P